DEPARTMENT OF TRANSPORTATION

Pipeline and Hazardous Materials Safety Administration

Hazardous Materials: Notice of Applications For New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before July 6, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on June 1, 2020.
Donald P. Burger,
Chief, General Approvals and Permits Branch.

Special Permits Data
Application No. | Applicant | Regulation(s) affected | Nature of the special permits thereof
21049-N | Ferrellgas, L.P | 180.205(c) | To authorize the transportation in commerce of 2,338 filled cylinders that had not been requalified before the requalification became due. (mode 1).
21051-N | Lab Vendor, LLC | 173.196(a), 173.196(b), 173.199(a), 173.199(d), 178.603, 178.609(d) | To authorize the transportation of certain chemicals and cryogenically preserved (refrigerated and deep frozen) infectious, biological substances packaged in special packaging in a specially designed, dedicated refrigerated truck by highway. (mode 1).
21053-N | Wisconsin Central Ltd | 172.203(a), 174.24, 174.26(a) | To authorize the use of electronic means to maintain and communicate on-board train consist and shipping paper information in lieu of paper documentation when hazardous materials are transported by rail. (mode 2).
21054-N | Siemens Energy, Inc | 173.56(b) | To authorize the transportation in commerce of a Class 1 material under an alternate Class 1 designation. (modes 1, 4).
21055-N | AVL Powertrain Engineering, Inc | 172.101(j), 173.185(a)(1), 173.185(b)(3) | To authorize the transportation in commerce of a single prototype lithium ion battery that exceeds 35 kg aboard cargo-only aircraft. (mode 4).
21056-N | Cummins Inc | 173.185(a)(1) | To authorize the transportation in commerce of prototype lithium batteries by cargo-only aircraft. (mode 4).
21057-N | Spaceflight, Inc | 173.185(a)(1) | To authorize the transportation in commerce of low production lithium ion batteries contained in equipment via cargo-only aircraft. (mode 4).
21058-N | Versum Materials, Inc | 180.209 | To authorize the transportation in commerce of cylinders with a water capacity not exceeding 125 lbs. that have been retested every 10 years as opposed to the 5-year retest frequency required in § 180.209. In addition, it is requested that the special permit provide relief from § 180.209(b)(1)(iv) in that combined acoustic emission and ultrasonic examination (AE/UE) or 100% UE methods are authorized in lieu of hydrostatic testing. (modes 1, 2, 3).
21059-N | Union Pacific Railroad Company Inc | 172.203(a), 174.24, 174.26(a) | To authorize the use of electronic means to maintain and communicate on-board train consist information in lieu of paper documentation when hazardous materials are transported by rail. (mode 2).
21060-N | Central Specialties, Inc |  | To authorize the transportation in commerce of storage tanks for the purpose of transporting liquefied petroleum gas. (mode 1).

[FR Doc. 2020-12120 Filed 6-4-20; 8:45 am]

BILLING CODE 4909-60-P